ENVIRONMENTAL PROTECTION AGENCY

[ER-FRL-6632-2]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 12, 2002 (67 FR 17992).

Draft EISs

ERP No. D-AFS-J65363-MT Rating EC2, Post Fire Vegetation and Fuels Management Project, Fuel Reduction, Bark Beetle Sanitation and Maintenance, and/or Restoration of Vegetative Communities, Beaverhead Deerlodge National Forest, Wisdom and Pintler Ranger Districts, Beaverhead and Deerlodge Counties, MT.

Summary: EPA expressed environmental concerns about proposed harvests in the Tie and Trail Creek drainages based on impacts to wetlands and the riparian areas. Monitoring to measure the effectiveness of harvesting for the prevention of spruce beetle epidemics should be included as well as additional seeding and revegetation and coordination with Montana Department of Environmental Quality.

ERP No. D-BLM-J02039-MT Rating 3, Montana Statewide Conventional Oil and Gas and Coal Bed Methane Gas Exploration and Development Management Plan within the Bureau of Land Powder River and Billings Resources Management Plan Areas and the State of Montana, Implementation, MT.

Summary: EPA concluded that the Draft EIS is inadequate based on the deficiencies in the water quality analysis; specifically by not addressing water management practices needed to assure attainment of water quality standards under the Clean Water Act. In addition, impacts to air quality, Tribal communities and their natural resources, and wildlife have not been adequately analyzed. EPA recommended: (1) Adopting the scientific analyses of water quality criteria being prepared by the Montana Department of Environmental Quality and the Northern Cheyenne Tribe, (2) preparing a Watershed Management Framework for each watershed and (3) including all additional key information in a Revised or Supplemental Draft EIS.

ERP No. D-BLM-J65358-WY Rating EU3, Powder River Basin Oil and Gas Project, Extraction, Transportation and Oil and Natural Gas Resources Sale, Application for a Permit to Drill (APD), Special Use Permit and Right-of-Way Grants, Campbell, Converse, Johnson and Sheridan Counties, WY.

Summary: EPA found the potential environmental impacts of the preferred alternative Environmentally Unsatisfactory based on degradation of water quality and subsequent impacts to irrigated agriculture. In addition, the Draft EIS did not adequately consider an alternative that would meet state water quality standards. EPA recommended: (1) Adopting the scientific analyses of water quality criteria being prepared by the Montana Department of Environmental Quality and the Northern Cheyenne Tribe, (2) prepare a Watershed Management Framework for each watershed and (3) include all additional key information in a Revised or Supplemental Draft EIS.

ERP No. D-COE-K30031-CA Rating EC2, Imperial Beach Shore Protection Project, Shore Protection and Prevention of Damage to Adjacent Beachfront Structures, Silver Strand Shoreline, City of Imperial Beach, San Diego County, CA.

Summary: EPA expressed environmental concerns and requested additional information on alternative sources of sand for beach nourishment and water quality survey and monitoring efforts for the project.

ERP No. D-FHW-K40251-CA Rating EC2, Butte 70/149/99/191 Highway Improvement Project, Update State Route 149 to Four-Lane Expressway from 70 north of Oroville to Route 99 south of Chico, Funding, Right-of-Way Acquisition, and US Army Section 404 Permit Issuance, Butte County, CA.

Summary: EPA expressed environmental concerns that cumulative impacts and induced growth impacts are not thoroughly analyzed. Impacts to resources such as habitat, water and air quality should be analyzed in further detail.

ERP No. DA-NOA-G64002-00 Rating LO, Reef Fish Fishery Management Plan, Secretarial Amendment 1, 10-Year Rebuilding Plan for Red Grouper, with Associated Impacts on Gag and Other Groupers, Gulf of Mexico.

Summary: While EPA has no objection to the action as proposed, it did request clarification information on protective measures on threatened and endangered species, especially sea turtles, that may become entangled in the fishing gear.

Final EISs

ERP No. F-AFS-L65343-ID

Whiskey Campo Resource Management Project, Implementation, Elmore County, ID.

Summary: No formal comment letter was sent to the preparing agency.

ERP No. F-BLM-K65235-AZ

Las Cienegas Resource Management Plan, Implementation, Las Cienegas National Conservation Area (NCA) and Sonoita Valley Acquisition Planning District, AZ.

Summary: No formal comment letter was sent to the preparing agency.

ERP No. F-FHW-H40171-NE

Lincoln South and East Beltways Project, Circumferential Transportation System Completion linking I-80 on the north and US 77 on the west, Funding and US Army COE Section 404 Permit and NPDES Permit Issuance, Lancaster County, NE.

Summary: EPA's environmental concerns were adequately addressed in the FEIS, therefore EPA has no objections to the proposed action.

ERP No. F-FRC-J03014-00

Kern River 2003 Gas Transmission Project, Expansion of the existing (KRGT) Interstate Pipeline System from southwestern Wyoming to southern California, Right-of-Way Grant, NPDES and US Army COE Section 404 Permits Issuance, (FERC Docket NO. CP01-422-000), WY, UT, NV and CA.

Summary: No formal comment letter was sent to the preparing agency.

ERP No. F-GSA-E80003-GA

Chamblee Campus Centers for Disease Control and Prevention (CDC) Expansion, Atlanta Metro Area, City of Chamblee, Dekalb County, GA.

Summary: While EPA has no objection to the action as proposed, it did request that our previous comments on the draft EIS be further addressed during the final project design and implementation phase.

ERP No. F-HUD-C85043-NY

1105-1135 Warburton Avenue, River Club Apartment Complex Development and Operation, Funding, City of Yonkers, Westchester County, NY.

Summary: EPA has no objection to the action proposed as our previous issues have been adequately addressed.

ERP No. F-NOA-A91067-00

Deep-sea Red Crab (Chaconne quinquedens) Fisheries, Fishery Management Plan, Development and Implementation, Norfolk Canyon in the south to the Haque Line in the north, Continental United States and Exclusive Economic Zone (EEZ).

Summary: EPA has no objection to the action as proposed.

Dated: August 13, 2002.
Joseph C. Montgomery,
Director, NEPA Compliance Division, Office of Federal Activities.

[FR Doc. 02-20863 Filed 8-15-02; 8:45 am]

BILLING CODE 6560-50-P